DEPARTMENT OF THE INTERIOR

National Park Service

[N6741; NPS-WASO-NAGPRA-NPS0041501; PPWOCRADN0-PCU00RP14.R50000]

Notice of Inventory Completion: University of Kansas, Lawrence, KS

AGENCY: National Park Service, Interior.

ACTION: Notice.

SUMMARY: In accordance with the Native American Graves Protection and Repatriation Act (NAGPRA), the University of Kansas has completed an inventory of human remains and associated funerary object and has determined that there is no lineal descendant and no Indian Tribe or Native Hawaiian organization with cultural affiliation.

DATES: Upon request, repatriation of the human remains and associated funerary object in this notice may occur on or after January 20, 2026.

ADDRESSES: Send written requests for repatriation of the human remains and associated funerary object in this notice to Thomas Torma, The University of Kansas, Office of Audit Risk and Compliance, 1450 Jayhawk Blvd., 351 Strong Hall, Lawrence, KS 66045, email t-torma@ku.edu.

SUPPLEMENTARY INFORMATION: This notice is published as part of the National Park Service's administrative responsibilities under NAGPRA. The determinations in this notice are the sole responsibility of the University of Kansas, and additional information on the determinations in this notice, including the results of consultation, can be found in its inventory or related records. The National Park Service is not responsible for the determinations in this notice.

Abstract of Information Available

Human remains representing, at least, 52 individuals have been identified. The one funerary object is one lot of artifacts. These ancestors and belongings are currently housed in the University of Kansas's Biodiversity Institute without any known provenience.

Consultation

Invitations to consult were sent to the Absentee-Shawnee Tribe of Indians of Oklahoma; Apache Tribe of Oklahoma; Assiniboine and Sioux Tribes of the Fort Peck Indian Reservation, Montana; Caddo Nation of Oklahoma; Cherokee Nation; Cheyenne and Arapaho Tribes, Oklahoma; Cheyenne River Sioux Tribe of the Cheyenne River Reservation, South Dakota; Citizen Potawatomi Nation, Oklahoma; Comanche Nation, Oklahoma; Delaware Nation, Oklahoma; Delaware Tribe of Indians; Eastern Shawnee Tribe of Oklahoma; Iowa Tribe of Kansas and Nebraska; Iowa Tribe of Oklahoma; Jicarilla Apache Nation, New Mexico; Kaw Nation, Oklahoma; Kickapoo Traditional Tribe of Texas; Kickapoo Tribe of the Kickapoo Reservation in Kansas; Kickapoo Tribe of Oklahoma; Kiowa Indian Tribe of Oklahoma; Little Traverse Bay Bands of Odawa Indians, Michigan; Lower Brule Sioux Tribe of the Lower Brule Reservation, South Dakota; Miami Tribe of Oklahoma; Nez Perce Tribe; Northern Arapaho Tribe of the Wind River Reservation, Wyoming; Northern Cheyenne Tribe of the Northern Cheyenne Indian Reservation, Montana; Oglala Sioux Tribe; Omaha Tribe of Nebraska; Otoe-Missouria Tribe of Indians, Oklahoma; Ottawa Tribe of Oklahoma; Pawnee Nation of Oklahoma; Peoria Tribe of Indians of Oklahoma; Ponca Tribe of Nebraska; Prairie Band Potawatomi Nation; Prairie Island Indian Community in the State of Minnesota; Quapaw Nation; Rosebud Sioux Tribe of the Rosebud Indian Reservation, South Dakota; Sac & Fox Nation of Missouri in Kansas and Nebraska; Sac & Fox Nation, Oklahoma; Sac & Fox of the Mississippi in Iowa; Saginaw Chippewa Indian Tribe of Michigan; Seneca-Cayuga Nation; Shakopee Mdewakanton Sioux Community of Minnesota; Shawnee Tribe; Sisseton-Wahpeton Oyate of the Lake Traverse Reservation, South Dakota; Standing Rock Sioux Tribe of North & South Dakota; Stockbridge Munsee Community, Wisconsin; The Muscogee (Creek) Nation; The Osage Nation; Thlopthlocco Tribal Town; United Keetoowah Band of Cherokee Indians in Oklahoma; Wichita and Affiliated Tribes (Wichita, Keechi, Waco, & Tawakonie), Oklahoma; Wyandotte Nation; and the Yankton Sioux Tribe of South Dakota.

The following Tribes accepted the invitation to consult on these ancestors: Cheyenne and Arapaho Tribes, Oklahoma; Cheyenne River Sioux Tribe of the Cheyenne River Reservation, South Dakota; Citizen Potawatomi Nation, Oklahoma; Iowa Tribe of Kansas and Nebraska; Iowa Tribe of Oklahoma; Jicarilla Apache Nation, New Mexico; Kaw Nation, Oklahoma; Northern Arapaho Tribe of the Wind River Reservation, Wyoming; Pawnee Nation of Oklahoma; Peoria Tribe of Indians of Oklahoma; Ponca Tribe of Nebraska; Prairie Band Potawatomi Nation; Quapaw Nation; Shawnee Tribe; Standing Rock Sioux Tribe of North & South Dakota; The Osage Nation; Thlopthlocco Tribal Town; Wichita and Affiliated Tribes (Wichita, Keechi, Waco, & Tawakonie), Oklahoma; Wyandotte Nation; and the Yankton Sioux Tribe of South Dakota.

The Kaw Nation, Oklahoma has agreed to accept responsibility for the reburial of these individuals.

Cultural Affiliation

The following types of information about the cultural affiliation of the human remains and associated funerary objects in this notice are available: biological, historical, and museum documentation and records. The information, including the results of consultation, identified:

1. No earlier group connected to the human remains and associated funerary object.

2. No Indian Tribe or Native Hawaiian organization connected to the human remains and associated funerary object.

3. No relationship of shared group identity between the earlier group and the Indian Tribe or Native Hawaiian organization that can be reasonably traced through time.

Determinations

The University of Kansas has determined that:

• The human remains described in this notice represent the physical remains of 52 individuals of Native American ancestry.

• The one object described in this notice are reasonably believed to have been placed intentionally with or near individual human remains at the time of death or later as part of the death rite or ceremony.

• No known lineal descendant who can trace ancestry to the human remains and associated funerary object in this notice has been identified.

• No Indian Tribe or Native Hawaiian organization with cultural affiliation to the human remains and associated funerary object in this notice has been clearly or reasonably identified.

Requests for Repatriation

Written requests for repatriation of the human remains and associated funerary object in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains and associated funerary object described in this notice may occur on or after January 20, 2026. If competing requests for repatriation are received, the University of Kansas must determine the most appropriate requestor prior to repatriation. Requests for joint repatriation of the human remains and associated funerary object are considered a single request and not competing requests. The University of Kansas is responsible for sending a copy of this notice to any consulting lineal descendant, Indian Tribe, or Native Hawaiian organization.

Authority: Native American Graves Protection and Repatriation Act, 25 U.S.C. 3003, and the implementing regulations, 43 CFR 10.10.

Dated: December 2, 2025.
Melanie O'Brien,
Manager, National NAGPRA Program.

[FR Doc. 2025-23192 Filed 12-17-25; 8:45 am]

BILLING CODE 4312-52-P